DEPARTMENT OF THE INTERIOR

National Park Service

Revised Draft Environmental Impact Statement and General Management Plan; Mojave National Preserve, San Bernardino County, California; Notice of Availability

SUMMARY: Pursuant to section 102(2)(C) of the National Environmental Policy Act of 1969 (Pub. L. 91-190, as amended), the National Park Service (NPS), Department of the Interior, has prepared a Revised Draft Environmental Impact Statement (DEIS) identifying and evaluating potential impacts of a proposed General Management Plan (GMP) for Mojave National Preserve. This revised document was prepared largely as a result of public comments on the earlier DEIS/GMP distributed for formal review in September 1998. Mojave National Preserve is a new unit of the National Park System, established by Congress on October 31, 1994, by the California Desert Protection Act. The Revised DEIS/GMP also includes a draft Land Protection Plan (LPP) that addresses management options for non-federal lands that exist inside the preserve boundary. This conservation planning and environmental impact analysis process is one element of the Northern and Eastern Mojave Planning Effort (NEMO), a coordinated interagency initiative involving the NPS, Bureau of Land Management, and U.S. Fish and Wildlife Service. The NPS has determined that this element of the overall NEMO effort may proceed apart from other components of this coordinated planning effort; thus separate Records of Decision will be prepared. The Revised DEIS identifies and evaluates the environmental consequences of a proposed GMP and two alternatives. No significant adverse environmental impacts are foreseen. Upon approval the GMP will set forth the initial overall preserve management strategy for the next 10-15 years under which more detailed activity or implementation plans are prepared as appropriate.

Proposal: This Revised DEIS/GMP identifies and analyzes the proposed management approach and two alternatives for managing the 1.6 million-acre Mojave National Preserve in the northeastern Mojave Desert in California. The proposed action (Alternative 1) envisions Mojave National Preserve as a natural environment and a cultural landscape, where the protection of native desert ecosystems and processes is assured for future generations. The protection and perpetuation of native species in a self-sustaining environment is a primary long-term goal. The proposal seeks to manage the preserve to perpetuate the sense of discovery and adventure that currently exists. This means minimizing development inside the preserve, including the proliferation of signs, new campgrounds, and interpretive exhibits. The NPS would look to adjacent communities to provide most support services (food, gas, and lodging) for visitors. The proposal also seeks to provide the public, consistent with the NPS mission, with maximum opportunities for roadside camping, backcountry camping, and access to the preserve via existing roads. Funding would be sought for the rehabilitation and partial restoration of the historic Kelso Depot for use as a museum and interpretive facility. A balance is struck between the NPS mission of resource preservation and other mandates from Congress, such as maintaining grazing, hunting, and mining under NPS regulations and continuing the existence of major utility corridors. The proposal would maintain the ability of private landowners inside the boundary of the preserve to maintain their current way of life, while seeking funding to purchase property from willing sellers where proposed uses conflict with the primary mission of preserving resources. Nearly 230,000 acres within the preserve were in nonfederal ownership at the time of establishment of the preserve.

Alternatives: In addition to the proposal, the alternatives addressed in this document also include existing management (no action), and an optional management approach. The existing management alternative (Alternative 2) describes the continuation of current management strategies. It is commonly referred to as the status quo alternative. Under this alternative, existing visitor and administrative support services and facilities would be maintained in their current locations. There would be few improvements in existing structures and there would be no change in road maintenance, although some roads might be improved if funding became available. No significant changes in existing recreation use would occur. Protection of Kelso Depot from fire, earthquakes and vandalism would be provided if funding could be obtained, but it would not be rehabilitated or restored. Land acquisition would focus on obtaining minimum funds to acquire property from willing sellers and properties where uses conflict with the preserve mission.

The optional approach (Alternative 3) provides for an increase in the facilities and services provided for public enjoyment. A small visitor contact building might be built at Kelso to provide information.

Comments: As noted, this Revised DEIS incorporates comments previously received from interested reviewers. At this time individuals, organizations, Tribes, agencies, and others wishing to express any new concerns about management issues and future land management direction are encouraged to address these to the Superintendent, Mojave National Preserve. All written comments must be postmarked not later than December 8, 2000, and should be submitted in care of the address noted below. If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Printed or CD-ROM copies of the Revised DEIS are available for public review at park headquarters, as well as at many public libraries and federal offices in southern California and southern Nevada. Also, the entire document is posted on the internet at www.nps.gov/deva. Inquiries or requests for a copy may also be directed to the Superintendent, Mojave National Preserve, 222 E. Main St., Suite 202, Barstow, California 92311; telephone is (760) 255-8801.

Public Meetings: The NPS will host a series of open houses to provide interested individuals and organization representatives an opportunity to express concerns, ask questions, view large scale maps and engage in dialog about the range or content of alternatives. This dialog is intended to provide additional guidance to the NPS in preparing a final EIS, GMP and LPP. Written comments will also be accepted at these workshops. The public is invited to attend at any time during the open house posted hours. The workshop schedule follows (location and other details will be updated on the internet site noted above):

Friday, October 27th | Barstow, CA | 2:00-6:00 p.m.
Monday, October 30th | Pasadena, CA | 6:00-9:00 p.m.
Tuesday, October 31st | San Bernardino, CA | 2:00-6:00 p.m.
Wednesday, November 1st | Needles, CA | 2:00-6:00 p.m.
Thursday, November 2nd | Las Vegas, NV | 2:00-6:00 p.m.
Friday, November 3rd | Baker, CA | 2:00-6:00 p.m.
Monday, November 13th | Amargosa, CA | 2:00-6:00 p.m.
Tuesday, November 14th | Furnace Creek, CA | 6:00-9:00 p.m.
Wednesday, November 15th | Bishop, CA | 6:00-9:00 p.m.
Thursday, November 16th | Lone Pine,CA | 6:00-9:00 p.m.
Friday, November 17th | Ridgecrest, CA | 6:00-9:00 p.m.

Decision: At the end of the formal Revised DEIS review period all written comments received will be duly considered in preparing a final plan. Currently the Final EIS and GMP are anticipated to be completed during spring 2001; the document will be announced in the Federal Register. Subsequently a Record of Decision would be executed not sooner than 30 (thirty) days after release of the final EIS. The official responsible for final approval is the Regional Director, Pacific West Region; the Superintendent, Mojave National Preserve is the official responsible for implementation of the approved GMP.

Dated: August 28, 2000.
William C. Walters,
Deputy Regional Director, Pacific West Region.

[FR Doc. 00-22741 Filed 9-5-00; 8:45 am]

BILLING CODE 4310-70-P